NATIONAL FOUNDATION FOR THE ARTS AND THE HUMANITIES

National Endowment for the Arts; National Council on the Arts 139th Meeting

Pursuant to section 10(a)(2) of the Federal Advisory Committee Act (Public Law 92-463), as amended, notice is hereby given that a meeting of the National Council on the Arts will be held on Friday, March 3, 2000 from 9 a.m. to 4 p.m. in Room M-09 at the Nancy Hanks Center, 100 Pennsylvania Avenue, NW, Washington, D.C. 20506.

The meeting will be open to the public on a space available basis. Following opening remarks and announcements, there will be a Congressional update and an update on the FY 2001 budget. Other presentations tentatively include: a report from the National Assembly of State Arts Agencies, a film on the Mars Project, staff presentations on Disability and the Arts and on Arts Education and Folk & Traditional Arts, and guest artist presentations by Alana Yvonne Wallace (wheelchair dancer) and Willy Conley (deaf playwright). Other topics will include Application Review; guidelines for American Jazz Masters FY 2002, National Heritage Fellowships FY 2001, Folk & Traditional Arts Infrastructure Initiative FY 2001, Partnership Agreements FY 2001, and Resources for Change: Technology FY 2001; and general discussion.

If, in the course of discussion, if becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of U.S.C. 552b.

Any interested persons may attend, as observers, Council discussions and reviews which are open to the public. If you need special accommodations due to a disability, please contact the Office of AccessAbility, National Endowment for the Arts, 1100 Pennsylvania Avenue, NW, Washington, D.C. 20506, 202/682-5532, TTY-TDD 202/682-5429, at least seven (7) days prior to the meeting.

Further information with reference to this meeting can be obtained from the Office of Communications, National Endowment for the Arts, Washington, D.C. 20506, at 202/682-5570.

Dated: January 9, 2000.
Kathy Plowitz-Worden,
Panel Coordinator, Office of Guidelines and Panel Operations.

[FR Doc. 00-3579 Filed 2-15-00; 8:45 am]

BILLING CODE 7537-01-M